DEPARTMENT OF THE INTERIOR

National Park Service

[NPS-WASO-NAGPRA-NPS0040146; PPWOCRADN0-PCU00RP14.R50000]

Notice of Intended Repatriation: Oakland Museum of California, Oakland, CA

AGENCY: National Park Service, Interior.

ACTION: Notice.

SUMMARY: In accordance with the Native American Graves Protection and Repatriation Act (NAGPRA), the Oakland Museum of California intends to repatriate certain cultural items that meet the definition of objects of cultural patrimony and that have a cultural affiliation with the Indian Tribes or Native Hawaiian organizations in this notice.

DATES: Repatriation of the cultural items in this notice may occur on or after June 16, 2025.

ADDRESSES: Anna Bunting, Oakland Museum of California, 1000 Oak Street, Oakland, CA 94607, telephone 510-318-8493, email nagpra@museumca.org.

SUPPLEMENTARY INFORMATION: This notice is published as part of the National Park Service's administrative responsibilities under NAGPRA. The determinations in this notice are the sole responsibility of the Oakland Museum of California, and additional information on the determinations in this notice, including the results of consultation, can be found in the summary or related records. The National Park Service is not responsible for the determinations in this notice.

Abstract of Information Available

A total of 15 cultural items, or lots of items, have been requested for repatriation. The 15 objects of cultural patrimony are baskets, awls, a cocoon rattle, gambling bones, ear ornaments, a salmon-gig, an arrow straightener, a flute, a sinker stone, and valley quail scalps.

Fourteen of these items were collected by Charles P. Wilcomb between September 29-November 28, 1911 and were removed from Butte County at that time. They were acquired by the Oakland Public Museum on December 11, 1911.

Museum records for these 14 items show one cocoon rattle and one set of four gambling bones were received from Capt. Charlie, Cherokee, Butte County. One basket and one set of awls were received from a woman identified as Dixie's wife at Camp Creek, Feather River Canyon, Butte County. One basket, one pair of ear ornaments, one salmon-gig, one awl, one arrow straightener, one flute, one sinker stone, and one lot of four male valley quail scalps were received from Oscar Johnson, Dogwood Rancheria, Feather River Canyon, Butte County. Two baskets were received from Jeff Grant, Chino Creek, Feather River Canyon.

One basket was also collected by Charles P. Wilcomb but is without a collecting date. This basket is listed in museum records as having been collected at Berry Creek, Butte County. It was donated to the Oakland Public Museum on December 7, 1915 by Louise Wilcomb, Charles Wilcomb's daughter, after his death in 1915.

The Oakland Public Museum and its collections were merged into the Oakland Museum of California in 1969.

The presence of potentially hazardous substances on these particular items is unknown.

Determinations

The Oakland Museum of California has determined that:

• The 15 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Berry Creek Rancheria of Maidu Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 16, 2025. If competing requests for repatriation are received, the Oakland Museum of California must determine the most appropriate requestor prior to repatriation. Requests for joint repatriation of the cultural items are considered a single request and not competing requests. The Oakland Museum of California is responsible for sending a copy of this notice to the Indian Tribes and Native Hawaiian organizations identified in this notice and to any other consulting parties.

Authority: Native American Graves Protection and Repatriation Act, 25 U.S.C. 3004 and the implementing regulations, 43 CFR 10.9.

Dated: May 6, 2025.
Melanie O'Brien,
Manager, National NAGPRA Program.

[FR Doc. 2025-08772 Filed 5-15-25; 8:45 am]

BILLING CODE 4312-52-P